DEPARTMENT OF COMMERCE

[Docket No.: 200922-0253]

Commerce Alternative Personnel System

AGENCY: Office of Administration, Office of Human Resources Management, Department of Commerce.

ACTION: Notice.

SUMMARY: This notice announces the expansion of employee coverage under the Commerce Alternative Personnel System (CAPS), formerly the Department of Commerce Personnel Management Demonstration Project, published in the Federal Register on December 24, 1997. This coverage is extended to include employees of the National Oceanic and Atmospheric Administration (NOAA), National Marine Fisheries Service (NMFS) located in the Southeast Regional Office.

DATES: The amended Commerce Alternative Personnel System is effective October 7, 2020.

FOR FURTHER INFORMATION CONTACT: Department of Commerce—Sandra Thompson, U.S. Department of Commerce, 1401 Constitution Avenue NW, Room 51020, Washington, DC 20230, (202) 482-0056 or Valerie Smith at (202) 482-0272.

SUPPLEMENTARY INFORMATION:

1. Background

The Office of Personnel Management (OPM) approved the Department of Commerce (DoC) demonstration project for an alternative personnel management system and published the final plan in the Federal Register on Wednesday, December 24, 1997 (62 FR 67434). The demonstration project was designed to simplify current classification systems for greater flexibility in classifying work and paying employees; establish a performance management and rewards system for improving individual and organizational performance; and improve recruiting and examining to attract highly-qualified candidates. The purpose of the project was to strengthen the contribution of human resources management and test whether the same innovations conducted under the National Institute of Standards and Technology alternative personnel management system would produce similarly successful results in other DoC environments. The project was implemented on March 29, 1998. The project plan has been modified fifteen times to clarify certain DoC Demonstration Project authorities, and to extend and expand the project: 64 FR 52810 (September 30, 1999); 68 FR 47948 (August 12, 2003); 68 FR 54505 (September 17, 2003); 70 FR 38732 (July 5, 2005); 71 FR 25615 (May 1, 2006); 71 FR 50950 (August 28, 2006); 74 FR 22728 (May 14, 2009); 80 FR 25 (January 2, 2015); 81 FR 20322 (April 7, 2016); 81 FR 40653 (June 22, 2016); 81 FR 54787 (August 17, 2016); 82 FR 1688 (January 6, 2017); 83 FR 54707 (October 31, 2018); 84 FR 22807 (May 20, 2019); and 85 FR 12771 (March 4, 2020). With the passage of the Consolidated Appropriations Act, 2008, Public Law 110-161, on December 26, 2007, the project was made permanent (extended indefinitely) and renamed the Commerce Alternative Personnel System (CAPS). CAPS provides for modifications to be made as experience is gained, results are analyzed, and conclusions are reached on how the system is working. This notice announces that the DoC expands CAPS to include bargaining unit employees in the NMFS located in the Southeast Regional Office (SERO).

The DoC will follow the CAPS plan as published in the Federal Register on December 24, 1997, and subsequent modifications as listed in the Background Section of this notice.

Paula Patrick,
Deputy Director for Human Resources Management and Deputy Chief Human Capital Officer.

Table of Contents

I. Executive Summary

II. Basis for CAPS Expansion

III. Changes to the Project Plan

I. Executive Summary

CAPS is designed to (1) improve hiring and allow DoC to compete more effectively for high-quality candidates through direct hiring, selective use of higher entry salaries, and selective use of recruitment incentives; (2) motivate and retain staff through higher pay potential, pay-for-performance, more responsive personnel systems, and selective use of retention incentives; (3) strengthen the manager's role in personnel management through delegation of personnel authorities; and (4) increase the efficiency of personnel systems through the installation of a simpler and more flexible classification system based on pay banding, through reduction of guidelines, steps, and paperwork in classification, hiring, and other personnel systems, and through automation.

The current participating organizations include 1 office of the Deputy Secretary in the Office of the Secretary, 6 offices of the Chief Financial Officer/Assistant Secretary for Administration in the Office of the Secretary; the Bureau of Economic Analysis; 2 units of the National Telecommunications and Information Administration (NTIA): The Institute for Telecommunication Sciences and the First Responder Network Authority (an independent authority within NTIA); and 12 units of the National Oceanic and Atmospheric Administration: the Office of Oceanic and Atmospheric Research, the National Marine Fisheries Service, the National Environmental Satellite, Data, and Information Service, the National Weather Service—Space Environment Center, the National Ocean Service, the Program Planning and Integration Office, the Office of the Under Secretary, the Marine and Aviation Operations, the Office of the Chief Administrative Officer, the Office of the Chief Financial Officer, the Office of Human Capital Services, formerly the Workforce Management Office, and the Office of the Chief Information Officer.

This amendment modifies the December 24, 1997, Federal Register notice. Specifically, it expands DoC CAPS to include NMFS bargaining unit employees located in the SERO.

II. Basis for CAPS Expansion

A. Purpose

CAPS is designed to provide supervisors/managers at the lowest organizational level the authority, control, and flexibility to recruit, retain, develop, recognize, and motivate its workforce, while ensuring adequate accountability and oversight.

NMFS is responsible for the stewardship of the nation's ocean resources and their habitat. NMFS provide vital services for the nation including productive and sustainable fisheries, safe sources of seafood, the recovery and conservation of protected resources, and healthy ecosystems. NMFS works in partnership with Regional Fishery Management Councils to assess and predict the status of fish stocks, set catch limits, ensure compliance with fisheries regulations, and reduce bycatch. Under the Marine Mammal Protection Act and the Endangered Species Act, NMFS works to recover protected marine species while allowing economic and recreational opportunities. Since the inception of the demonstration project in 1997, and subsequent modification/expansion notices, units of NMFS have participated in CAPS.

A September 17, 2003, notice (68 FR 54505) announced the expansion of CAPS to include non-bargaining unit employees located in the SERO, in St. Petersburg, Florida. With many NOAA organizations being covered by an alternative personnel management system, NOAA and NMFS made the determination to convert the remaining bargaining unit GS SERO workforce under CAPS.

The expansion of CAPS coverage to include the remaining bargaining unit GS employees of SERO will allow NMFS to continue to benefit from the flexibilities provided by CAPS and should improve the organization's ability to recruit and retain a high-quality workforce.

DoC's CAPS allows for modifications of procedures if no new waiver from law or regulation is added. Given that this expansion is in accordance with existing law and regulation and CAPS is a permanent alternative personnel system, the DoC is authorized to make the changes described in this notice.

B. Participating Employees

Employee notification of this expansion will be accomplished by providing a full set of briefings to employees and managers and providing them electronic access to all CAPS policies and procedures, including the fifteen previous Federal Register notices. This Federal Register notice will also be accessible electronically upon approval. Subsequent supervisor training and informational briefings for all employees will be accomplished prior to the implementation date of the expansion.

C. Labor Participation

The Labor organization was notified about the CAPS expansion pertaining to their bargaining unit membership. Bargaining unit employees are covered by NAGE Local R5-45, St. Petersburg, Florida.

III. Changes to the Project Plan

The CAPS at DoC, published in the Federal Register on December 24, 1997 (62 FR 67434), is amended as follows:

1. The following organization will be added to the project plan, Section II D—Participating Organizations.

Within the National Oceanic and Atmospheric Administration (NOAA),

National Marine Fisheries Service (NMFS),

Additional employees in the following:

Southeast Regional Office (SERO)

2. The following bargaining unit is added to the project plan, Section II F—Labor Participation Table 4—Bargaining Unit Coverage.

SERO | St. Petersburg, FL | NAGE Local R5-45

[FR Doc. 2020-22105 Filed 10-6-20; 8:45 am]

BILLING CODE 3510-EA-P